DEPARTMENT OF DEFENSE

Department of the Army

[Docket ID: USA-2020-HQ-0005]

Privacy Act of 1974; System of Records

AGENCY: Department of the Army (USA), Department of Defense (DoD).

ACTION: Rescindment of a System of Records Notice (SORN).

SUMMARY: The USA is rescinding a System of Records, A0385-1040 ASO, Army Safety Management Information System (ASMIS). These records consist of safety investigation case files retrieved by the report identification number, incident date, location, unit identification code, accident classification, or accident description. Personal information is collected during the investigation on individuals involved in or witness to an incident; however, their personal identifiers are not used to maintain or retrieve the records. To maintain the integrity of investigatory material, the USA established specialized procedures to restrict queries to descriptors of the incident, therefore these records are not subject to the Privacy Act of 1974. Individuals involved in or witness to the incident, and other interested parties may request information collected in safety investigations records under the provisions of the Freedom of Information Act (FOIA).

DATES: This System of Records rescindment is effective upon publication.

FOR FURTHER INFORMATION CONTACT: Mr. Myron Wong, Department of the Army, U.S. Army Records Management and Declassification Agency, ATTN: Army Privacy and Civil Liberties Office, 9301 Chapek Road (Building 1458), Fort Belvoir, VA 22060-5605, or by phone at (571) 515-0500.

SUPPLEMENTARY INFORMATION: The ASMIS covers records pertaining to safety investigation data and travel risk assessments. The records are associated with two USA information technology (IT) systems: Army Safety Management Information System-Revised (ASMIS-R) and Travel Risk Planning System (TRiPS). The ASMIS-R is the USA's enterprise IT system for collecting, storing, and managing USA safety incident data. The TRiPS is a web-based application which allows individuals to generate risk assessments when traveling by a personally owned automobile or motorcycle. Records generated by the ASMIS-R and TRiPS are not retrieved by the use of a personal identifier, therefore the records are not subject to the Privacy Act of 1974 (5 U.S.C. 552a, as amended).

The U.S. Army Combat Readiness Center (USACRC) uses safety incident data stored in the ASMIS-R to produce reports, operational guidance, training materials, and incident analyses for the USA. Investigations for mishaps and occupational injuries are mandated by 5 U.S.C. 7902, Safety Programs and DoD Instruction 6055.07, “Mishap Notification, Investigation, Reporting, and Record Keeping.” The investigations are conducted in accordance with USA Regulation 385-10, “The Army Safety Program,” and USA Pamphlet 385-40, “Army Accident Investigations and Reporting.” Safety investigations are used exclusively for accident prevention purposes. As such, the USA established specialized procedures to maintain the integrity of investigatory case files by restricting queries to descriptors of the incident. Safety investigation records may contain privileged information to include witness statements, deliberative products, pictures, diagrams, audio and video tapes, investigatory notes, and findings. The information collected is required to determine causal factors, implement corrective actions, and develop mitigation strategies. Although personal information is collected during the course of the investigation, it is not used to retrieve safety records. The collection and use of personal information is necessary to conduct interviews and to assess causal factors (human error, material, or environmental). Personal identifiers may be used to request data maintained in existing DoD Systems of Records to include personnel, training, medical, and law enforcement records.

Individuals involved in, witness to a USA safety incident, and or other interested parties may request information collected in safety investigations records under the provisions of the FOIA. The USACRC Commander has oversight of the USA Safety program under authority granted by the Assistant Secretary of the Army for Installations, Energy and Environment. Accordingly, the USACRC is the repository for all USA safety accident reports. All FOIA requests pertaining to USA safety accident investigation reports will be referred through command channels to Commander, U.S. Army Combat Readiness Center, Ruf Avenue, Building 4905, Fort Rucker, AL 36362-5363. Electronic FOIA requests may be submitted via the USACRC web page at: https://safety.army.mil/HOME/FOIA.aspx. The USACRC Commander has the authority to act as the initial denial authority on requests for information from USA Safety Accident Reports.

Records pertaining to individual travel risk assessments are created in the TRiPS application. The TRiPS is a web-based tool accessible to all DoD service members and civilians. The TRiPS allows individuals to create a safety assessment when traveling by a privately owned automobile or motorcycle for leave, pass or other purpose. The application provides a fillable worksheet and generates a PDF file and is automatically emailed to the addressee specified by the individual completing the worksheet. Personal information entered in the worksheet includes name, email address, supervisor's email address, departure location, destination, and travel dates. All personal information entered in the TRiPS is stored in a temporary cache while the assessment is generated. The output (PDF) is a travel risk assessment for the individual to submit to his or her supervisor for face-to-face counseling. The risk assessment provides tips to help with trip planning and reinforces safe driving practices. The individual may optionally save the PDF to a location of his or her choosing. The completed worksheet is retained by the supervisor in the individual's local supervisory/counseling record. The application does not store or share data with the ASMIS-R. The application was included as a System of Records under the ASMIS during initial development, however, the requirements changed as the application was expanded to support all services. The TRiPS does not require user registration and does not maintain any records on individuals.

Rescission of this SORN does not affect the safeguards, retention, or disposition of the records. Paper and electronic records are protected in accordance with policies in DoD Manual 5200.01, Volume 4, DoD Information Security Program: Controlled Unclassified Information (CUI). Records are accessed by person(s) responsible for servicing the records system in performance of their official duties and by properly screened authorized personnel cleared for need-to-know. Records are stored in locked rooms, cabinets, and in computer storage devices protected by computer system software. Access to computerized data is restricted by use of Common Access Cards (CACs) and is accessible only by users with an authorized account. USA safety mishap and occupational injury records, both physical and digital will be retained for 50 year(s) after the event and until no longer needed for business use, in accordance with the approved records schedule. Travel assessments generated by the TRiPS are maintained based on the component's disposition schedules for local supervisory/counseling records.

The DoD notices for Systems of Records subject to the Privacy Act of 1974, as amended, have been published in the Federal Register and are available from the address in FOR FURTHER INFORMATION CONTACT or via the Defense Privacy, Civil Liberties, and Transparency Division website at https://dpcld.defense.gov.

The proposed systems reports, as required by the Privacy Act of 1974, as amended, were submitted on December 30, 2019, to the House Committee on Oversight and Reform, the Senate Committee on Homeland Security and Governmental Affairs, and to the Office of Management and Budget (OMB) pursuant to Section 6 of OMB Circular No. A-108, “Federal Agency Responsibilities for Review, Reporting, and Publication under the Privacy Act,” revised December 23, 2016 (December 23, 2016, 81 FR 94424).

SYSTEM NAME AND NUMBER:

Army Safety Management Information System (ASMIS), A0385-1040 ASO.

HISTORY:

June 15, 2010, 75 FR 33794.

Dated: February 24, 2020.
Aaron T. Siegel,
Alternate OSD Federal Register Liaison Officer, Department of Defense.

[FR Doc. 2020-03949 Filed 2-26-20; 8:45 am]

BILLING CODE 5001-06-P